DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Connecticut: Fairfield (FEMA Docket No.: B-2159). | City of Stamford (21-01-0442P). | The Honorable David R. Martin, Mayor, City of Stamford, 888 Washington Boulevard, 10th Floor, Stamford, CT 06901. | Environmental Protection Board, 888 Washington Boulevard, 7th Floor, Stamford, CT 06901. | Nov. 16, 2021 | 090015
Florida:
Collier (FEMA Docket No.: B-2161). | City of Naples (21-04-3345P). | The Honorable Teresa Heitmann, Mayor, City of Naples, 735 8th Street South, Naples, FL 34102. | Building Department, 295 Riverside Circle, Naples, FL 34102. | Nov. 29, 2021 | 125130
Duval (FEMA Docket No.: B-2161). | City of Jacksonville (21-04-0334P). | The Honorable Lenny Curry, Mayor, City of Jacksonville, 117 West Duval Street, Suite 400, Jacksonville, FL 32202. | Development Services Department, 214 North Hogan Street, Jacksonville, FL 32202. | Nov. 17, 2021 | 120077
Sarasota (FEMA Docket No.: B-2161). | Unincorporated areas of Sarasota County (21-04-3524P). | The Honorable Alan Maio, Chairman, Sarasota County Board of Commissioners, 1660 Ringling Boulevard, Sarasota, FL 34236. | Sarasota County Planning and Development Services Department, 1001 Sarasota Center Boulevard, Sarasota, FL 34240. | Nov. 24, 2021 | 125144
Seminole (FEMA Docket No.: B-2161). | City of Lake Mary (21-04-1242P). | The Honorable David J. Mealor, Mayor, City of Lake Mary, 100 North Country Club Road, Lake Mary, FL 32746. | Public Works Department, 911 Wallace Court, Lake Mary, FL 32746. | Nov. 22, 2021 | 120416
Volusia (FEMA Docket No.: B-2159). | City of Daytona Beach (21-04-3150P). | The Honorable Derrick L. Henry, Mayor, City of Daytona Beach, 301 South Ridgewood Avenue, Room 200, Daytona Beach, FL 32114. | Utilities Department, 125 Basin Street, Suite 100, Daytona Beach, FL 32114. | Nov. 17, 2021 | 125099
Volusia (FEMA Docket No.: B-2164). | City of DeBary (21-04-0102P). | The Honorable Karen Chasez, Mayor, City of DeBary, 403 River Drive, DeBary, FL 32713. | City Hall, 16 Columbia Road, DeBary, FL 32713. | Nov. 24, 2021 | 120672
Louisiana: LaSalle (FEMA Docket No.: B-2159). | Unincorporated areas of LaSalle Parish (21-06-2196P). | Mr. Robert Fowler, LaSalle Parish President, P.O. Box 1288, Jena, LA 71342. | LaSalle Parish Courthouse, 1050 Courthouse Street, Room 13, Jena, LA 71342. | Nov. 18, 2021 | 220112
Maine: Aroostook (FEMA Docket No.: B-2161). | Town of Fort Kent (21-01-0663P). | Ms. Suzie Paradis, Manager, Town of Fort Kent, 416 West Main Street, Fort Kent, ME 04743. | Town Hall, 416 West Main Street, Fort Kent, ME 04743. | Nov. 26, 2021 | 230019
Massachusetts:
Plymouth (FEMA Docket No.: B-2159). | Town of Carver (20-01-0491P). | Mr. Richard LaFond, Town of Carver Administrator, 108 Main Street, Carver, MA 02330. | Town Hall, 108 Main Street, Carver, MA 02330. | Nov. 26, 2021 | 250262
Plymouth (FEMA Docket No.: B-2159). | Town of Pembroke (20-01-0491P). | Mr. William D. Chenard, Town of Pembroke, Manager, 100 Center Street, Pembroke, MA 02359. | Town Hall, 100 Center Street, Pembroke, MA 02359. | Nov. 26, 2021 | 250277
New Mexico: Santa Fe (FEMA Docket No.: B-2159). | Unincorporated areas of Santa Fe County (21-06-1246P). | Ms. Katherine Miller, Santa Fe County Manager, 102 Grant Avenue, Santa Fe, NM 87501. | Santa Fe County Building and Development Services Department, 102 Grant Avenue, Santa Fe, NM 87501. | Nov. 17, 2021 | 350069
North Dakota:
Ransom (FEMA Docket No.: B-2161). | City of Lisbon (20-08-0874P). | The Honorable Tim Meyer, Mayor, City of Lisbon, P.O. Box 1079, Lisbon, ND 58054. | City Hall, 423 Main Street, Lisbon, ND 58054. | Nov. 16, 2021 | 380091
Ransom (FEMA Docket No.: B-2161). | Unincorporated areas of Ransom County (20-08-0874P). | The Honorable Norm Hansen, Chairman, Ransom County Board of Commissioners, P.O. Box 668, Lisbon, ND 58054. | Ransom County Courthouse, 204 5th Avenue West, Lisbon, ND 58054. | Nov. 16, 2021 | 380089
Pennsylvania:
Columbia (FEMA Docket No.: B-2161). | Town of Bloomsburg (21-03-0940P). | The Honorable William Kreisher, Mayor, Town of Bloomsburg, 301 East 2nd Street, Bloomsburg, PA 17815. | Town Hall, 301 East 2nd Street, Bloomsburg, PA 17815. | Nov. 24, 2021 | 420339
Columbia (FEMA Docket No.: B-2161). | Township of Catawissa (21-03-0940P). | The Honorable James Kitchen, Chairman, Township of Catawissa Board of Supervisors, 153 Old Reading Road, Catawissa, PA 17820. | Township Hall, 153 Old Reading Road, Catawissa, PA 17820. | Nov. 24, 2021 | 420342
Texas:
Brazoria and Harris (FEMA Docket No.: B-2161). | City of Pearland (19-06-2864P). | The Honorable Tom Reid, Mayor, City of Pearland, 3519 Liberty Drive, Pearland, TX 77581. | City Hall, 3519 Liberty Drive, Pearland, TX 77581. | Nov. 22, 2021 | 480077
Dallas (FEMA Docket No.: B-2159). | City of Rowlett (20-06-2314P). | The Honorable Tammy Dana-Bashian, Mayor, City of Rowlett, 4000 Main Street, Rowlett, TX 75088. | Community Development Department, 5702 Rowlett Road, Rowlett, TX 75089. | Nov. 19, 2021 | 480185
Harris (FEMA Docket No.: B-2161). | City of Houston (19-06-2864P). | The Honorable Sylvester Turner, Mayor, City of Houston, P.O. Box 1562, Houston, TX 77251. | Floodplain Management Department, 1002 Washington Avenue, Houston, TX 77002. | Nov. 22, 2021 | 480296
Harris (FEMA Docket No.: B-2161). | Unincorporated areas of Harris County (19-06-2864P). | The Honorable Lina Hidalgo, Harris County Judge, 1001 Preston Street, Suite 911, Houston, TX 77002. | Harris County Permit Office, 10555 Northwest Freeway, Suite 120, Houston, TX 77092. | Nov. 22, 2021 | 480287
Harris (FEMA Docket No.: B-2161). | Unincorporated areas of Harris County (20-06-0474P). | The Honorable Lina Hidalgo, Harris County Judge, 1001 Preston Street, Suite 911, Houston, TX 77002. | Harris County Permit Office, 10555 Northwest Freeway, Suite 120, Houston, TX 77002. | Nov. 22, 2021 | 480287
Kendall (FEMA Docket No.: B-2171). | Unincorporated areas of Kendall County (21-06-0592P). | The Honorable Darrel L. Lux, Kendall County Judge, 201 East San Antonio Avenue, Suite 122, Boerne, TX 78006. | Kendall County Courthouse, 201 East San Antonio Avenue, Suite 100, Boerne, TX 78006. | Nov. 17, 2021 | 480417
Burnet (FEMA Docket No.: B-2159). | Unincorporated areas of Burnet County (21-06-1501P). | The Honorable James Oakley, Burnet County Judge, 220 South Pierce Street, Burnet, TX 78611. | Burnet County Development Services Department, 133 East Jackson Street, Burnet, TX 78611. | Nov. 18, 2021 | 481209
Llano (FEMA Docket No.: B-2159). | Unincorporated areas of Llano County (21-06-1501P). | The Honorable Ron Cunningham, Llano County Judge, 801 Ford Street, Room 101, Llano, TX 78643. | Llano County Land Development and Emergency Management Department, 100 West Sandstone Street, Suite 200A, Llano, TX 78643. | Nov. 18, 2021 | 481234
Montgomery (FEMA Docket No.: B-2164). | City of Conroe (21-06-0972P). | The Honorable Jody Czajkoski, Mayor, City of Conroe, P.O. Box 3066, Conroe, TX 77305. | City Hall, 700 Metcalf Street, Conroe, TX 77301. | Nov. 26, 2021 | 480484
Montgomery (FEMA Docket No.: B-2164). | City of Shenandoah (21-06-0972P). | The Honorable Ritch Wheeler, Mayor, City of Shenandoah, 29955 I-45 North, Shenandoah, TX 77381. | City Hall, 29955 I-45 North, Shenandoah, TX 77381. | Nov. 26, 2021 | 481256
Montgomery (FEMA Docket No.: B-2164). | Unincorporated areas of Montgomery County (21-06-0972P). | The Honorable Mark J. Keough, Montgomery County Judge, 501 North Thompson Street, Suite 401, Conroe, TX 77301. | Montgomery County Court House, 501 North Thompson Street, Suite 103, Conroe, TX 77301. | Nov. 26, 2021 | 480483
Travis (FEMA Docket No.: B-2159). | City of Pflugerville (20-06-3449P). | The Honorable Victor Gonzales, Mayor, City of Pflugerville, 100 East Main Street, Suite 300, Pflugerville, TX 78691. | Development Services Department, 201-B East Pecan Street, Pflugerville, TX 78691. | Nov. 22, 2021 | 481028

[FR Doc. 2021-27610 Filed 12-20-21; 8:45 am]

BILLING CODE 9110-12-P